EXPORT-IMPORT BANK

[Public Notice: 2017-3016]

Agency Information Collection Activities: Final Collection; Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

This collection will provide information needed to determine compliance and creditworthiness for transaction requests submitted to EXIM under its insurance, guarantee, and direct loan programs. Information presented in this form will be considered in the overall evaluation of the transaction, including Export-Import Bank's determination of the appropriate term for the transaction.

DATES: Comments should be received on or before January 16, 2018 to be assured of consideration.

ADDRESSES: Comments maybe submitted electronically on http://www.regulations.gov (EIB 11-03) or by mail to Office of Information and Regulatory Affairs, 725 17th Street NW, Washington, DC 20038 Attn: OMB 3048-0039 The form can be viewed at: https://www.exim.gov/sites/default/files/pub/pending/eib11-03.pdf.

SUPPLEMENTARY INFORMATION:

Titles and Form Number: EIB 11-03 Used Equipment Questionnaire.

OMB Number: 3048-0039.

Type of Review: Regular.

Need and Use: The information collected will provide information needed to determine compliance and creditworthiness for transaction requests submitted to the Export Import Bank under its insurance, guarantee, and direct loan programs.

Affected Public: This form affects entities involved in the export of U.S. goods and services.

Annual Number of Respondents: 50.

Estimated Time per Respondent: 15 minutes.

Annual Burden Hours: 12.5 hours.

Frequency of Reporting or Use: As needed.

Government Expenses:

Reviewing Time per Year: 12.5 hours.

Average Wages per Hour: $42.50.

Average Cost per Year: $531.25 (time * wages).

Benefits and Overhead: 20%.

Total Government Cost: $637.5.

Bassam Doughman,
IT Specialist.

[FR Doc. 2017-27091 Filed 12-14-17; 8:45 am]

BILLING CODE 6690-01-P